DEPARTMENT OF ENERGY

Multi-stakeholder Process To Develop a Voluntary Code of Conduct for Smart Grid Data Privacy

AGENCY: Office of Electricity Delivery and Energy Reliability, Department of Energy.

ACTION: Notice of Open Meeting.

SUMMARY: The U.S. Department of Energy, Office of Electricity Delivery and Energy Reliability (DOE OE) will convene the first meeting of the smart grid data privacy multistakeholder process concerning the development of an Voluntary Code of Conduct for utility and third parties providing consumer energy use services.

DATES: Tuesday, February 26, 2013 (9:30 a.m. to 4:30 p.m., Eastern Standard Time).

ADDRESSES: Federal Energy Regulatory Commission (FERC), Commission Meeting Room, 888 First Street NE., Washington, DC 20426.

The meeting will also be webcast. There will be an opportunity for stakeholders viewing the webcast to participate remotely in the meeting. Please register your intent to participate at www.smartgrid.gov/privacy. Instructions for remote participation will be sent to registrants and posted on the Web site www.smartgrid.gov/privacy seven (7) days prior to the meeting.

FOR FURTHER INFORMATION CONTACT: Eric Lightner, U.S. Department of Energy, Office of Electricity Delivery and Energy Reliability, 1000 Independence Ave. SW., Washington, DC 20585; telephone (202) 586-8130; email eric.lightner@hq.doe.gov.

SUPPLEMENTARY INFORMATION: Background:

On January 31, 2012, the U.S. Department of Energy, Office of Electricity Delivery and Energy Reliability (DOE OE) hosted the Smart Grid Privacy Workshop ¹ to facilitate a dialog among key industry stakeholders. On February 23, 2012, the White House released the report, Consumer Data Privacy in a Networked World: A Framework for Protecting Privacy and Promoting Innovation in the Global Digital Economy ² (Privacy Blueprint). The Privacy Blueprint outlines a multi-stakeholder process for developing voluntary codes of conduct that, if adopted by businesses, would instill consumer confidence. In response to workshop findings and in support of the Privacy Blueprint, DOE OE and the Federal Smart Grid Task Force will facilitate a multistakeholder process to develop a Voluntary Code of Conduct (VCC) for utilities and third parties providing consumer energy use services. The goal of the process is to develop a common set of practices that will provide privacy protections for consumers with regard to access, use, and sharing of electricity usage and related data and will provide regulators and decision makers with a resource for evaluating potential privacy regulations and practices.

¹ DOE Smart Grid Data Privacy Workshop Report is available at http://www.smartgrid.gov/document/us_department_energy_smart_grid_privacy_workshop_summary_report.

² Privacy Blueprint is available at http://www.whitehouse.gov/sites/default/files/privacyfinal.pdf.

Matters to be considered: The meeting on February 26, 2013 will be the first in a series of DOE-convened multi-stakeholder discussions concerning the development of a VCC and will engage stakeholders in an open, transparent process. The objectives of the meeting are to (1) promote discussion among stakeholders regarding a proposed VCC outline, including the types of data to be covered and (2) establish procedural rules for developing the VCC. Additional information can be found at www.smartgrid.gov/privacy.

Audience: Stakeholders who may be interested in participating include—but are not limited to—utilities, consumer advocates, regulators, third party providers, building energy managers, academics, and home energy auditors.

Other Information: The meeting is open to the public and the press. Attendees should arrive at least one-half hour prior to the start of the meeting to facilitate entry to the FERC building. Participants will be required to show valid, government-issued photo identification upon arrival. Foreign nationals must contact Eric Lightner at (202) 586-8130 or eric.lightner@hq.doe.gov at least seven (7) business days prior to the meeting in order to provide the necessary clearance information and must present valid, government-issued photo identification upon arrival. This meeting is physically accessible to people with disabilities. Requests for sign language interpretation or other auxiliary aids should be directed to Eric Lightner at (202) 586-8130 or eric.lightner@hq.doe.gov at least seven (7) business days prior to the meeting.

Issued in Washington, DC, on February 4, 2013.
Patricia A. Hoffman,
Assistant Secretary.

[FR Doc. 2013-03021 Filed 2-8-13; 8:45 am]

BILLING CODE 6450-01-P